DEPARTMENT OF TRANSPORTATION

Federal Aviation Administration

14 CFR Parts 1, 61, 101, and 107

[Docket No.: FAA-2020-1067; Amdt. No.: 1-74A]

RIN 2120-AL43

Removal of the Special Rule for Model Aircraft; Correction

AGENCY: Federal Aviation Administration (FAA), Department of Transportation (DOT).

ACTION: Final rule; correction.

SUMMARY: The FAA is correcting a final rule published on December 11, 2020. In that final rule, which became effective on the date of publication, the FAA removed the regulations codifying the Special Rule for Model Aircraft as a result of a change in applicable law. The FAA inadvertently listed an incorrect amendment number for the final rule. This document corrects that error.

DATES: This correction is effective July 26, 2021.

FOR FURTHER INFORMATION CONTACT: Thea Dickerman, Office of Rulemaking, Federal Aviation Administration, 800 Independence Avenue SW, Washington, DC 20591; telephone: 202-267-2371; email: thea.c.dickerman@faa.gov.

SUPPLEMENTARY INFORMATION: On December 11, 2020, the FAA published the Removal of the Special Rule for Model Aircraft final rule (85 FR 79823). After the rule was published, the FAA discovered it had listed Amdt. No. 1-73 for the changes to title 14 Code of Federal Regulations part 1, instead of Amdt. No. 1-74.

Electronic Access and Filing

A copy of the final rule may be viewed online at http://www.regulations.gov using the docket number listed above. A copy of this final rule will also be placed in the docket. Electronic retrieval help and guidelines are available on the website. It is available 24 hours each day, 365 days each year. An electronic copy of this document may also be downloaded from the Office of the Federal Register's website at http://www.ofr.gov and the Government Publishing Office's website at http://www.gpo.gov.

Good Cause for Adoption Without Prior Notice

Under the Administrative Procedure Act (APA) (5 U.S.C. 553), the Agency generally offers interested parties the opportunity to comment on proposed regulations and publish rules not less than 30 days before their effective dates. However, the APA provides that an agency is not required to conduct notice-and-comment rulemaking or delay effective dates when the agency, for good cause, finds that the requirement is impracticable, unnecessary, or contrary to the public interest (5 U.S.C. 553(b)(B) and (d)(3)). There is good cause to waive both of these requirements here as they are unnecessary, as this action merely makes a technical correction to the amendment number of a published final rule.

Correction

In FR Doc. 2020-26726 (85 FR 79823) published on December 11, 2020, the following correction is made:

1. On page 79823, in the second column, in the heading of the final rule, correct “Amdt. Nos. 1-73, 61-148, 101-10, 107-6” to read “Amdt. Nos. 1-74, 61-148, 101-10, 107-6”.

Issued under authority provided by 49 U.S.C. 106(f) and 44809, in Washington, DC.
Timothy R. Adams,
Acting Executive Director, Office of Rulemaking.

[FR Doc. 2021-15839 Filed 7-23-21; 8:45 am]

BILLING CODE 4910-13-P